DEPARTMENT OF HEALTH AND HUMAN SERVICES

Substance Abuse and Mental Health Services Administration

Notice of Meetings

Pursuant to Public Law 92-463, notice is hereby given of the meetings small group sessions of five Substance Abuse and Mental Health Services Administration (SAMHSA) advisory committees (SAMHSA National Advisory Council, Center for Mental Health Services National Advisory Council, Center for Substance Abuse Prevention National Advisory Council, Center for Substance Abuse Treatment National Advisory Council, and the Advisory Committee for Women's Services) in May 2001.

The organizing theme of the Year 2001 Joint Council Meeting is “Taking the Pulse.” The sessions on May 22 will be open and will include the Faith-based Initiative, co-occurring disorders and trauma, collaboration with NIAAA, NIDA, NIMH, HRSA and HCFA, reauthorization, integration across the lifespan and reducing health disparities. In addition, there will be presentations by the Directors of the National Institutes of Health, NIAAA, NIDA, and NIMH. On May 23, there will be follow-up reports from the May 22 sessions, an Agency report, a discussion on SAMHSA's budget issues, and presentations by SAMHSA's Directors of CSAP, CSAT, and CMHS.

Attendance by the public will be limited to space available. Public comments are welcome, and interested persons may present information or views, orally or in writing, on issues pending before the committees. Those desiring to make formal presentations should contact Toian Vaughn, Executive Secretary, Office of Extramural Programs, SAMHSA, 5600 Fishers Lane, Room 12C-06, Rockville, Maryland 20857, prior to May 18, 2001, and submit a brief statement of: the general nature of the information or arguments they wish to present, the names, addresses, and telephone numbers of proposed participants, identification of organizational affiliation, and an indication of the approximate time required to make their comments. Time for presentations may be limited by the number of requests. Photocopies, up to five pages of material, may be distributed at the meeting through the SAMHSA National Advisory Council Executive Secretary, if provided by May 18.

A summary of the meeting and/or a roster of committee members may be obtained from Toian Vaughn, Executive Secretary, SAMHSA National Advisory Council, 5600 Fishers Lane, Room 17-89, Rockville, Maryland 20857. Telephone (301) 443-4266, e-mail: tvaughn@samhsa.gov.

Substantive program information and information pertaining to special accommodations for persons with disabilities may be obtained from the contact whose name and telephone number is listed below.

Committee Names: Substance Abuse and Mental Health Services Administration, National Advisory Council, Center for Mental Health Services National Advisory Council, Center for Substance Abuse Prevention National Advisory Council, Center for Substance Abuse Treatment National Advisory Council, Advisory Committee for Women's Services.

Meeting Date(s): Tuesday, May 22, 2001, Wednesday, May 23, 2001.

Place: Gaithersburg Marriott Washingtonian Center (at Rio), 9751 Washingtonian Boulevard, Gaithersburg, Maryland 20878.

Open: May 22, 2001, 9 a.m.-6:30 p.m., May 23, 2001, 9:30 a.m.-6 p.m.

Contact: Toian Vaughn, M.S.W., Executive Secretary, SAMHSA National Advisory Council, 5600 Fishers Lane, Room 17-89, Rockville, Maryland 20857, Telephone (301) 443-4266.

In addition, the Center for Mental Health Services (CMHS) National Advisory Council will hold its individual meeting. A portion of the meeting will be open and will include a roll call, general announcements, and a discussion about consumer affairs, new program initiatives for the current fiscal year, the recently released Surgeon General's Report on youth violence, and grant findings from the ACCESS program, which dealt with issues related to mental health and homelessness. Public comments are welcome. Please communicate with the individual listed as contact below for guidance. If anyone needs special accommodations for persons with disabilities, please notify the contact listed below.

The meeting will include the review, discussion, and evaluation of individual grant applications. Therefore, a portion of the meeting will be closed to the public as determined by the Administrator, SAMHSA, in accordance with Title 5 U.S.C. 552b(c)(4), and (6) and 5 U.S.C. App. 2, § 10(d).

A summary of the meeting and a roster of Council members may be obtained from: Ms. Patricia Gratton, Committee Management Officer, CMHS National Advisory Council, 5600 Fishers Lane, Room 11 C-26, Rockville, Maryland 20857, telephone: (301) 443-7987.

Substantive program information may be obtained from the contact whose name and telephone number is listed below.

Committee Name: Center for Mental Health Services National Advisory Council.

Meeting Date: Thursday, May 24, 2001.

Place: Gaithersburg Marriott Washingtonian Center (at Rio), 9751 Washingtonian Boulevard, Gaithersburg, Maryland 20878.

Closed: May 24, 2001, 9 a.m.-10 a.m.

Open: May 24, 2001, 10:15 a.m.-5:30 p.m.

Contact: Eileen S. Pensinger, Executive Secretary, Telephone: (301) 443-4823 and FAX: (301) 443-4865.

In addition, the Center for Substance Abuse Prevention (CSAP) National Advisory Council will hold its individual meeting. A portion of the meeting will be open and will include an update on CSAP's budget, recommendations by Council on the Center's programs, and discussions of the Faith-based Initiative, the Data Coordinating Center, administrative matters and announcements. Public comments are welcome. Please communicate with the individual listed as contact below for guidance. If anyone needs special accommodations for persons with disabilities, please notify the contact listed below.

The meeting will include the review, discussion, and evaluation of individual grant applications. Therefore a portion of the meeting will be closed to the public as determined by the Administrator, SAMHSA, in accordance with Title 5 U.S.C. 552b(c)(4), and (6) and 5 U.S.C. App. 2, § 10(d).

A summary of this meeting and roster of committee members may be obtained from Yuth Nimit, Ph.D., Executive Secretary, Rockwall II building, Suite 901, 5600 Fishers Lane, Rockville, Maryland 20857, Telephone: (301) 443-8455.

Substantive program information may be obtained from the contact whose name and telephone number is listed below.

Committee Name: Center for Substance Abuse Prevention, National Advisory Council.

Meeting Date: Thursday, May 24, 2001.

Place: Gaithersburg Marriott Washingtonian Center (at Rio), 9751 Washingtonian Boulevard, Gaithersburg, Maryland 20878.

Closed: May 24, 2001, 8:30 a.m.-11:30 a.m.

Open: May 24, 2001, 1 p.m.-4:30 p.m.

Contact: Yuth Nimit, Ph.D., 5515 Security Lane, Rockwall II Building, Suite 901, Rockville, Maryland 20852, Telephone: (301) 443-8455.

In addition, the Center for Substance Abuse Treatment (CSAT) National Advisory Council will hold its individual meeting. A portion of the meeting will be open and include discussion of the Center's policy issues and current administrative, legislative, and program developments. Status reports on OPIOID Accreditation, and CSAT's Initiative for Homeless Substance Abusers will be presented. Other presentations include: The Faith Initiative; 42 CFR Part 2 and Child Protective Services; Parity Coalition; and Recovery Month. Council members will give updates on SAMHSA's Subcommittees, and discuss, ldquo;Substance Abuse and the Consumer”. Public comments are welcome. Please communicate with the individual listed as contact below for guidance. If anyone needs special accommodations for persons with disabilities, please notify the Contact listed below.

The meeting will also include the review, discussion, and evaluation of grant applications. Therefore a portion of the meeting will be closed to the public as determined by the Administrator, SAMHSA, in accordance with Title 5 U.S.C. 552b(c)(4) and (6) and 5 U.S.C. App. 2, § 10(d).

A summary of the meeting and roster of council members may be obtained from: Ms. Cynthia Graham, CSAT, National Advisory Council, Rockwall II Building, Suite 618, 5600 Fishers Lane, Rockville, Maryland 20857, Telephone: (301) 443-8923.

Substantive program information may be obtained from the contact whose name and telephone number is listed below.

Committee Name: Center for Substance Abuse Treatment, National Advisory Council.

Meeting Date: Thursday, May 24, 2001.

Place: Gaithersburg Marriott Washingtonian Center (at Rio), 9751 Washingtonian Boulevard, Gaithersburg, Maryland.

Closed: May 24, 2001, 8:30 a.m.-9 a.m.

Open: May 24, 2001, 9 a.m.-4:30 p.m.

Contact: Cynthia Graham, M.S., Public Health Analyst, Telephone: (301) 443-8923 and FAX: (301) 480-6077.

In addition, the Advisory Committee for Women's Services will hold its individual meeting. The meeting will include a discussion of policy and program issues relating to women's substance abuse and mental health service needs, cultural competency, and new 2002 funding opportunities addressing women. It will also include planning discussions for SAMHSA's Third National Conference on Women. Public comments are welcome. Please communicate with the individual listed as contact below for guidance. If anyone needs special accommodations for persons with disabilities, please notify the Contact listed below.

A summary of the meeting and/or a roster of committee members may be obtained from: Nancy P. Brady, Executive Secretary, Advisory Committee for Women's Services, Office for Women's Services, SAMHSA, Parklawn Building, Room 13-99, 5600 Fishers Lane, Rockville, Maryland 20857, Telephone: (301) 443-5184.

Substantive information may be obtained from the contact whose name and telephone number is listed below.

Committee Name: Advisory Committee for Women's Services.

Meeting Date: Thursday, May 24, 2001.

Place: Gaithersburg Marriott Washingtonian Center (at Rio), 9751 Washingtonian Boulevard, Gaithersburg, MD 20878.

Open: May 24, 2001, 9:30 a.m.-3:30 p.m.

Contact: Nancy P. Brady, Room 13-99, Parklawn Building, Telephone: (301) 443-5184.

In addition, the Substance Abuse and Mental Health Services Administration will hold its individual meeting. The meeting will be open and will include discussions related to SAMHSA's activities in the area of data, HIV/AIDS, and performance partnerships; follow up to the February 8-9, 2000 SAMHSA National Advisory Council Meeting; and a discussion on the SAMHSA Council and its seven workgroups.

Attendance by the public will be limited to space available. Public comments are welcome. If anyone needs special accommodations for persons with disabilities, please notify the Contact listed below.

Substantive program information, a summary of the meeting, and a roster of Council members may be obtained from the contact whose name and telephone number is listed below.

Committee Name: SAMHSA National Advisory Council.

Meeting Date: Thursday, May 24, 2001.

Place: Gaithersburg Marriott Washingtonian Center (at Rio), 9751 Washingtonian Boulevard, Gaithersburg, Maryland 20878.

Open: May 24, 2001, 9:30 a.m.-5 p.m.

Contact: Toian Vaughn, Executive Secretary, 5600 Fishers Lane, Parklawn Building, Room 17-89, Rockville, MD 20857, Telephone: (301) 443-7016; FAX: (301) 443-1587 and e-mail: TVaughn@samhsa.gov.

This notice is being published less than 15 days prior to the meeting due to the urgent need to meet timing limitations imposed by the review and funding cycle.

Dated: May 9, 2001.
Toian Vaughn,
Executive Secretary/Committee Management Officer, SAMHSA.

[FR Doc. 01-12094 Filed 5-14-01; 8:45 am]

BILLING CODE 4162-20-P